DEPARTMENT OF DEFENSE

Department of the Army, Corps of Engineers

[COE-2024-0004]

Thomas R. Carper Water Resources Development Act of 2024 Comment Period and Stakeholder Sessions

AGENCY: U.S. Army Corps of Engineers, Department of the Army, DoD.

ACTION: Request for comments; announcement of stakeholder sessions.

SUMMARY: The Office of the Assistant Secretary of the Army for Civil Works (OASA(CW)) is seeking public comment on any provisions in the Thomas R. Carper Water Resources Development Act (WRDA) of 2024. The OASA(CW) will consider all comments received during the 60-day public comment period in the development and issuance of guidance to implement WRDA 2024.

DATES: The public comment period will end on April 28, 2025. To ensure your comment is considered during the development of guidance, comments should be received on or before that date. In addition, three stakeholder sessions will be held to allow the public to provide input on any provisions in WRDA 2024 at the following dates/times: March 12, 2025 from 2:00 p.m. to 4:00 p.m. Eastern; March 26, 2025 from 2:00 p.m. to 4:00 p.m. Eastern; April 9, 2025 from 2:00 to 4:00 p.m. Eastern. An additional stakeholder session will be held on April 2, 2025 from 2:00 to 4:00 p.m. Eastern which will focus on topics related to Tribal nations and will be open to the general public. Please refer to the Supplementary Information section for additional information on the stakeholder sessions.

ADDRESSES: You may submit written comments, identified by Docket ID No. COE-2024-0004, by any of the following methods:

Federal eRulemaking Portal: http://www.regulations.gov/. Follow the online instructions for submitting comments.

Email: WRDA2024@usace.army.mil. Include Docket ID No. COE-2024-0004 in the subject line of the message.

Mail: U.S. Army Corps of Engineers, ATTN: Ms. Amy Frantz, CEW-P, U.S. Army Corps of Engineers, 3F91, 441 G St. NW, Washington, DC 20314.

Hand Delivery/Courier: Due to security requirements, we cannot receive comments by hand delivery or courier. Comments received may be posted without change to https://www.regulations.gov/, including any personal information provided.

FOR FURTHER INFORMATION CONTACT: All requests for further information on the notice and the stakeholder sessions may be directed to Ms. Lauren Leuck, OASA(CW), at 703-839-0383 or lauren.d.leuck.civ@army.mil.

SUPPLEMENTARY INFORMATION: This comment period regarding WRDA 2024 (Pub. L. 118-272) is being conducted in accordance with Section 1105 of the Water Resources Development Act of 2018 (Pub. L. 115-270). A copy of WRDA 2024 can be found at: https://www.usace.army.mil/Missions/Civil-Works/Water-Resources-Development-Act/. The OASA(CW) and the Corps will hold focused stakeholder sessions using webinars/teleconferences by means of the web link https://usace1.webex.com/meet/WRDA2024 and teleconference information at 1-844-800-2712 Code 1992 62 9020. See dates and times in the DATES section. Commenters can provide information on any provision of interest during each session. Final written guidance will be available to the public on the publicly accessible website https://www.usace.army.mil/Missions/Civil-Works/Water-Resources-Development-Act/.

Robyn S. Colosimo,
Deputy Assistant Secretary of the Army for Project Planning and Review, performing the duties of the Assistant Secretary of the Army (Civil Works).

[FR Doc. 2025-03143 Filed 2-26-25; 8:45 am]

BILLING CODE 3720-58-P